DEPARTMENT OF LABOR

Employment and Training Administration

[TA-W-72,418]

Electronic Data Systems, a Hewlett-Packard Company: Montvale, NJ; Notice of Termination of Investigation

Pursuant to Section 221 of the Trade Act of 1974, as amended, an investigation was initiated in response to a petition filed on September 28, 2009, by the State Workforce Office, on behalf of workers of Electronic Data Systems, a Hewlett-Packard Company, Montvale, New Jersey.

The petitioner has requested to withdraw the petition. Therefore, further investigation in this case would serve no purpose and the investigation has been terminated.

Signed at Washington, DC, this 10th of March, 2010.
Del Min Amy Chen,
Certifying Officer, Division of Trade Adjustment Assistance.

[FR Doc. 2010-6926 Filed 3-29-10; 8:45 am]

BILLING CODE 4510-FN-P